ARCHITECTURAL AND TRANSPORTATION BARRIERS COMPLIANCE BOARD

36 CFR Part 1192

[Docket No. ATBCB 2010-0004]

RIN 3014-AA38

Americans With Disabilities Act (ADA) Accessibility Guidelines for Transportation Vehicles

AGENCY: Architectural and Transportation Barriers Compliance Board.

ACTION: Notice of public information meeting and reopening of comment period.

SUMMARY: The Architectural and Transportation Barriers Compliance Board (Access Board) is holding a public information meeting in Washington, DC on September 19, 2012 on the pending rulemaking to revise and update its accessibility guidelines for buses, over-the-road buses, and vans. The purpose of the meeting is to discuss issues related to the design and slope of bus ramps and the space needed at the top of ramps by individuals who use wheeled mobility devices to access the fare collection device and to turn into the main aisle. The Access Board is also reopening the comment period on the rulemaking.

DATES: The public information meeting in Washington, DC will be held from 9:30 a.m. to 1:30 p.m. on September 19, 2012. Persons planning to attend the meeting should contact Scott Windley at (202) 272-0025 (voice), (202) 272-0028 (TTY), or windley@access-board.gov. More information and any updates to the meeting will be posted on the Access Board's Web site at http://www.access-board.gov/transit/. The reopened comment period on the rulemaking will extend from August 20, 2012 through October 31, 2012.

ADDRESSES: Submit comments by any of the following methods:

• Federal eRulemaking Portal (preferred): http://www.regulations.gov. Follow the instructions for submitting comments. Regulations.gov ID for this docket is ATBCB-2010-0004.

• Email: docket@access-board.gov. Include docket number ATBCB 2010-0004 in the subject line of the message.

• Fax: 202-272-0081.

• Mail or Hand Delivery/Courier: Office of Technical and Information Services, Access Board, 1331 F Street NW., Suite 1000, Washington, DC 20004-1111.

All comments will be posted without change to http://www.regulations.gov, including any personal information provided. All comments previously received are also available at this site.

The public information meeting location is Access Board Conference Room, 1331 F Street NW., Suite 800, Washington, DC 20004.

FOR FURTHER INFORMATION CONTACT: Scott Windley, Office of Technical and Information Services, Architectural and Transportation Barriers Compliance Board, 1331 F Street NW., Suite 1000, Washington, DC 20004-1111. Telephone (202) 272-0025 (voice) or (202) 272-0028 (TTY). Email address windley@access-board.gov.

SUPPLEMENTARY INFORMATION:

On July 26, 2010, the Architectural and Transportation Barriers Compliance Board (Access Board) issued a notice of proposed rulemaking (NPRM) to revise and update its accessibility guidelines for buses, over-the-road buses, and vans. See 75 FR 43748, July 26, 2010. The NPRM revised both the substance and structure of the guidelines. In addition to a new organization and format, the NPRM included revisions to technical requirements for ramp slopes, onboard circulation routes, wheelchair spaces, and securement systems. The NPRM also included a new requirement for automated stop and route announcements in systems with 100 or more buses and requirements specific to bus rapid transit systems. The comment period on the NPRM ended on November 23, 2010.

The NPRM proposed that bus ramps have slopes not steeper than 1:6 (17 percent) when deployed to the boarding and alighting areas without station platforms and to the roadway. See T303.8.1 in the NPRM. Some bus and ramp manufacturers currently provide ramps that meet this proposed provision. To minimize the ramp extension beyond the doorway, some manufacturers provide a fixed ramp slope inside the bus creating the potential for a grade break, or change in ramp slope, within a single ramp run. These designs also can reduce the level floor space at the top of the ramp. After the comment period on the NPRM ended, the Access Board received correspondence from Lane Transit District, Santa Clara Valley Transportation Authority, and Douglas Cross Transportation Consulting that raises issues regarding the usability of these ramps. The Access Board staff met with representatives from Lane Transit District and Douglas Cross Transportation Consulting to discuss these issues. The correspondence and a report on the meeting have been placed in the docket at http://www.regulations.gov.

The Access Board will hold a public information meeting in Washington, DC from 9:30 a.m. to 1:30 p.m. on September 19, 2012 to discuss issues related to the design and slope of bus ramps and the space at the top of ramps needed by individuals who use wheeled mobility devices to access fare collection devices and to turn into main aisles. The Access Board plans to hold an additional public information meeting on the same issues at the annual meeting of the American Public Transportation Association (APTA) in Seattle, Washington during the first week of October 2012. A notice will be published in the Federal Register announcing the specific date and location of the public information meeting at the APTA annual meeting. The Access Board is interested in receiving information on the following questions at the public information meetings:

1. Can a bus ramp with a slope of 1:6 be provided without a grade break and without compromising the available level space within the bus at the top of the ramp? How might bus kneeling affect these designs?

2. If the ramp slope were required to be uniform for the length of the ramp with no grade breaks, how would such a requirement affect bus and ramp designs, manufacturers, transit operators, and transit users, including those with disabilities?

3. How much level space, measured when the bus is sitting on a level surface, can be provided beyond the top of the ramp? How can this space be configured to permit individuals who use wheeled mobility devices to access fare collection devices and to turn into the main aisle? How does the slope of the ramp, the location of the fare collection device, and the configuration of the handrail affect the availability of this space?

4. If level space were required at the top of the ramp to permit access to fare collection devices and to facilitate turning into main aisles, how would such a requirement affect bus designs, manufacturers, transit operators, and transit users, including those with disabilities?

Bus and ramp manufacturers, transit operators, researchers, disability organizations, and interested individuals are invited to participate in the public information meetings. Transcripts of the meetings will be placed in the docket and will be available on the Access Board's Web site at http://www.access-board.gov/transit/.

The information meetings will be accessible to persons with disabilities. An assistive listening system, computer assisted real-time transcription (CART), and sign language interpreters will be provided. Persons attending the information meetings are requested to refrain from using perfume, cologne, and other fragrances for the comfort of other participants (see www.access-board.gov/about/policies/fragrance.htm for more information).

The Access Board is reopening the comment period to allow interested persons to respond to the recent correspondence from Lane Transit District, Santa Clara Valley Transportation Authority, and Douglas Cross Transportation Consulting and information presented at the public information meetings, or to submit other comments on the rulemaking.

David M. Capozzi,
Executive Director.

[FR Doc. 2012-20404 Filed 8-17-12; 8:45 am]

BILLING CODE 8150-01-P